ENVIRONMENTAL PROTECTION AGENCY

40 CFR Part 52

[FL-83-200009c; FRL-6719-4]

Approval and Promulgation of Implementation Plans; Florida: Approval of Revisions to the Florida State Implementation Plan; Reopening of Comment Period and Notice of Public Hearing

AGENCY: Environmental Protection Agency (EPA).

ACTION: Proposed rule; announcement of public hearing and reopening of the comment period.

SUMMARY: EPA is announcing the date, time, and location of a public hearing to accept oral comments on EPA's proposed approval of revisions to the Florida State Implementation Plan (SIP) concerning revisions to the ozone air quality maintenance plans for the Jacksonville (Duval County) and Southeast Florida (Broward, Dade, and Palm Beach Counties) areas. This proposed revision removes the emission reduction credits attributable to the Motor Vehicle Inspection Program from the future year emission projections contained in those plans. EPA is also reopening the comment period for a proposed rule published March 17, 2000 (65 FR 14506) concerning this Florida SIP revision.

DATES: Written comments must be received by EPA on or before August 4, 2000. EPA will hold a public hearing at the following time and at the address listed below: July 20, 2000, at the South Florida Water Management District Auditorium, 3301 Gun Club Road, West Palm Beach, Florida, starting at 6:00 p.m.

ADDRESSES: Comments should be submitted to Joey Levasseur at the EPA, Region 4 Air Planning Branch, 61 Forsyth Street, SW, Atlanta, Georgia 30303

FOR FURTHER INFORMATION CONTACT: Joey Levasseur at 404/562-9035 (email at levasseur.joey@epa.gov).

SUPPLEMENTARY INFORMATION: On March 17, 2000, we solicited public comment on a proposal for approval of revisions to the Florida SIP concerning revisions to the ozone air quality maintenance plans for the Jacksonville (Duval County) and Southeast Florida (Broward, Dade, and Palm Beach Counties) areas. This proposed revision removes the emission reduction credits attributable to the Motor Vehicle Inspection Program from the future year emission projections contained in those plans. In response to requests from the American Lung Association of Florida, Inc., Environmental Defense, and David B. Rivkin, Jr. as counsel for Environmental Systems Products, Inc., on April 13, 2000 (65 FR 19865), EPA extended the comment period until May 17, 2000. EPA subsequently received requests to extend the comment period further and to hold a public hearing.

Based on letters received in response to proposal, we believe there is significant public interest in the proposed Florida SIP revision. EPA has therefore decided to hold a public hearing on the proposed revision to the Florida SIP. The public hearing will be held on July 20, 2000, at the South Florida Water Management District Auditorium, 3301 Gun Club Road, West Palm Beach, Florida, starting at 6:00 p.m.

Persons planning to present oral testimony at the hearing should notify Joey Levasseur, EPA Region 4 Air Planning Branch, 61 Forsyth Street, SW, Atlanta, Georgia 30303, telephone 404/562-9035, email levasseur.joey@epa.gov no later than July 17, 2000. Oral testimony will be limited to five minutes for each presenter. Any member of the public may file a written statement before, during, or by the close of the comment period. Written statements (duplicate copies preferred) should be submitted to Joey Levasseur referencing Docket FL-83-200009c at the above address. A verbatim transcript of the hearing and written statements will be made available for copying during normal working hours at the Region 4 office listed in the address section. A reasonable charge may be assessed for copying of docket materials.

To accommodate the public hearing, we are also extending the deadline for receiving written public comments on the proposal until August 4, 2000, 15 days after the public hearing. Interested persons are invited to attend the public hearing and to comment on all aspects of EPA's proposed rulemaking.

List of Subjects in 40 CFR Part 52

Environmental protection, Air pollution control, Intergovernmental relations, Ozone, Reporting and recordkeeping requirements.

Dated: June 8, 2000.
Phyllis Harris,
Acting Regional Administrator, Region 4.

[FR Doc. 00-15506 Filed 6-19-00; 8:45 am]

BILLING CODE 6560-50-P